DEPARTMENT OF TRANSPORTATION

Research and Special Programs Administration

[Docket Number: RSPA-4957 Notice]

Pipeline Safety: Renewal of Information Collection: Comment Request

AGENCY: Research and Special Programs Administration (RSPA), DOT.

ACTION: Notice and request for public comments.

SUMMARY: This notice requests public participation in the Office of Management and Budget (OMB) approval process regarding the renewal of an existing RSPA collection of information for Operator Qualification of Pipeline Personnel. RSPA intends to request OMB approval for renewal of this information collection under the Paperwork Reduction Act of 1995. The public is invited to submit comments on ways to minimize the burden associated with collection of information related to the operator qualification requirements in the pipeline safety regulations, as well as other factors listed in the body of this notice.

DATES: Comments on this notice must be received on or before June 17, 2002 to be assured of consideration.

ADDRESSES: Interested persons are invited to send comments in duplicate to the U.S. Department of Transportation, Dockets Facility, Plaza 401, 400 Seventh Street, SW., Washington, DC 20590-0001 or e-mail to dms.dot.gov. Comments can be reviewed at the dockets facility which is open from 10 a.m. to 5 p.m., Monday through Friday, except on Federal holidays, when the facility is closed. Comments must identify the docket number of this notice. Persons should submit the original documents and one (1) copy. Persons wishing to receive confirmation of receipt of their comments must include a stamped, self-addressed postcard. Please identify the docket and notice numbers shown in the heading of this notice. Documents pertaining to this notice can be viewed in this docket. The docket can also be viewed electronically at dms.dot.gov.

FOR FURTHER INFORMATION CONTACT: Marvin Fell, (202) 366-6205, to ask questions about this notice; or write by e-mail to marvin.fell@rspa.dot.gov.

SUPPLEMENTARY INFORMATION: Title: National Operator Qualification of Pipeline Personnel.

Type of Request: Renewal of existing information collection.

Abstract: Congressional concern with the lack of skills of some pipeline personnel was expressed in the Pipeline Safety and Reauthorization Act of 1988 (Pub. L. 100-561). It authorized the Secretary of Transportation to require all individuals responsible for the operation and maintenance of pipeline facilities to be properly qualified to safely perform tasks on pipeline facilities. The operator qualification requirements are described in the pipeline safety regulations at 49 CFR part 192, subpart N and 49 CFR part 195, subpart G.

Respondents: Gas and hazardous liquid pipeline operators.

Estimated Number of Respondents: 50,000.

Estimated Number of Responses per Respondent: 1.

Estimated Total Annual Burden on Respondents: 466,667 hours.

Comments are invited on: (a) The need for the proposed collection of information for the proper performance of the functions of the agency, including whether the information will have practical utility; (b) the accuracy of the agency's estimate of the burden of the proposed collection of information including the validity of the methodology and assumptions used; (c) ways to enhance the quality, utility and clarity of the information to be collected; and (d) ways to minimize the burden of the collection of information on those who are to respond, including the use of appropriate automated, electronic, mechanical, or other technological collection techniques.

All timely written comments to this notice will be summarized and included in the request for OMB approval. All comments will also be available to the public in the docket.

Issued in Washington, DC, on April 10, 2002.
Stacey L. Gerard,
Associate Administrator for Pipeline Safety.

[FR Doc. 02-9415 Filed 4-17-02; 8:45 am]

BILLING CODE 4910-60-P